DEPARTMENT OF TRANSPORTATION

Federal Aviation Administration

14 CFR Part 93

[Docket No. FAA-2004-17005; Amdt. No. 93-91A]

RIN 2120-AI17

Washington, DC Metropolitan Area Special Flight Rules Area; Technical Amendment

AGENCY: Federal Aviation Administration, DOT.

ACTION: Final rule; technical amendment.

SUMMARY: Currently, FAA regulations require all pilots operating aircraft to or from College Park Airport, Potomac Airfield or Washington Executive/Hyde Field Airport to file instrument flight rules (IFR), DC Flight Restricted Zone (FRZ), or DC Special Flight Rules Area (SFRA) flight plans with the Washington Hub Flight Service Station (FSS). The FAA is transferring the responsibility for processing flight plans within the DC FRZ from the Washington Hub FSS to the Washington Air Route Traffic Control Center (ARTCC). This document revises the regulations by updating the organization responsible for processing the flight plans and by updating the flight plans required for flight operations in the DC FRZ.

DATES: Effective on March 29, 2018.

FOR FURTHER INFORMATION CONTACT: Scott Rosenbloom, Airspace and Rules, AJV-113, Federal Aviation Administration, 800 Independence Avenue SW, Washington, DC 20591; telephone (202) 267-3783; email scott.rosenbloom@faa.gov.

SUPPLEMENTARY INFORMATION:

Good Cause for Immediate Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Under this section, an agency, upon finding good cause, may issue a final rule without seeking comment prior to the rulemaking.

Section 553(d)(3) of the Administrative Procedure Act requires that agencies publish a rule not less than 30 days before its effective date, except as otherwise provided by the agency for good cause found and published with the rule.

This document revises § 93.343(a) of title 14 of the Code of Federal Regulations (14 CFR) by updating the organization responsible for processing IFR and FRZ flight plans from/to College Park, Potomac Airfield, and Washington Executive/Hyde Field airports. This revision will not impose any additional restrictions on the persons affected by these regulations. Furthermore, any additional delay in revising the regulations would be contrary to the public interest because it would create confusion among pilots operating in the DC SFRA including the DC FRZ. Accordingly, the FAA finds that (i) public comment on this change prior to promulgation is unnecessary and contrary to public interest, and (ii) good cause exists to make this rule effective in less than 30 days.

Background

Currently, § 93.343(a) requires pilots to file IFR, DC FRZ, or DC SFRA flight plans with the Washington Hub FSS for each departure and arrival from/to College Park, Potomac Airfield, and Washington Executive/Hyde Field Airports, whether or not the aircraft makes an immediate stop.

An objective of the Administrator's Flight Service National Airspace System (NAS) Efficient Streamlined Services Initiative is to realign activities through more efficient delivery of services. As part of this initiative, the FAA is transferring the responsibility for processing IFR and DC FRZ flight plans within the Washington DC Flight Restricted Zone from the Washington Hub FSS to the Flight Data Unit (FDU) at Washington ARTCC. This transition will occur on March 29, 2018. As a result, the FAA is updating § 93.343(a) to reflect the change in responsibility.¹

¹ The FAA notes that this change in responsibility will also generate a change in the dedicated phone number used for pilots to confirm their flight plan. Therefore, the FAA is also revising its Orders to update the phone number and organization responsible for filing IFR and DC FRZ flight plans.

Also as a result of the transition, the FAA is removing from §§ 93.341(d) and 93.343(a)(2) the references to the DC SFRA flight plan. Both regulations govern flight operations within the DC FRZ, which require a DC FRZ flight plan. Because a single entity was responsible for processing both DC SFRA and DC FRZ flight plans, the FAA has effectively construed any request for a DC SFRA flight plan to/from a location within the DC FRZ as a DC FRZ flight plan. Once the responsibilities for processing DC SFRA and DC FRZ flight plans are divided between two entities, however, the FAA will no longer be able to re-characterize a DC SFRA flight plan as a DC FRZ flight plan. The FAA is, therefore, removing the references to the DC SFRA from §§ 93.341(d) and 93.343(a)(2) to make clear that a pilot must file either an IFR or DC FRZ flight plan when operating to or from the DC FRZ.

Furthermore, the FAA notes that it has communicated with the Transportation Security Administration (TSA) about a corresponding technical amendment that must be made to 49 CFR 1562.3(g)(1) to include the new organization responsible for processing IFR and DC FRZ flight plans.

Technical Amendment

In this technical amendment, the FAA is revising § 93.343(a)(2) and (3) by removing the references to the Washington Hub FSS. In their place, the FAA is inserting references to the Washington ARTCC, which is the new organization responsible for processing the flight plans. Furthermore, the FAA is revising §§ 93.341(d) and 93.343(a)(2) by removing the references to the DC SFRA flight plan.

List of Subjects in 14 CFR Part 93

Air traffic control, Airports, Navigation (air), Reporting and recordkeeping requirements.

The Amendment

In consideration of the foregoing, the Federal Aviation Administration amends chapter I of title 14, Code of Federal Regulations as follows:

PART 93—SPECIAL AIR TRAFFIC RULES

1. The authority citation for part 93 continues to read as follows:

Authority: 49 U.S.C. 106(f), 106(g), 40103, 40106, 40109, 40113, 44502, 44514, 44701, 44715, 44719, 46301.

2. Amend § 93.341 by revising paragraph (d) to read as follows:

§ 93.341 Aircraft operations in the DC FRZ.

* * * * *

(d) Before departing from an airport within the DC FRZ, or before entering the DC FRZ, all aircraft, except DOD, law enforcement, and lifeguard or air ambulance aircraft operating under an FAA/TSA airspace authorization must file and activate an IFR or a DC FRZ flight plan and transmit a discrete transponder code assigned by an Air Traffic Control facility. Aircraft must transmit the discrete transponder code at all times while in the DC FRZ or DC SFRA.

3. Amend § 93.343 by revising paragraphs (a)(2) and (a)(3) to read as follows:

§ 93.343 Requirements for aircraft operations to or from College Park Airport, Potomac Airfield, or Washington Executive/Hyde Field Airport.

(a) * * *

(2) Before departing, the pilot files an IFR or DC FRZ flight plan with the Washington Air Route Traffic Control Center for each departure and arrival from/to College Park, Potomac Airfield, and Washington Executive/Hyde Field airports, whether or not the aircraft makes an intermediate stop;

(3) When filing a flight plan with the Washington Air Route Traffic Control Center, the pilot identifies himself or herself by providing the assigned pilot identification code. The Washington Air Route Traffic Control Center will accept the flight plan only after verifying the code; and

* * * * *

Issued under the authority of 49 U.S.C. 106(f) and (g) and 40103 in Washington, DC.
Lirio Liu,
Executive Director, Office of Rulemaking.

[FR Doc. 2018-06335 Filed 3-28-18; 8:45 am]

BILLING CODE 4910-13-P